DEPARTMENT OF COMMERCE

National Oceanic and Atmospheric Administration

RIN 0648-XE497

Takes of Marine Mammals Incidental to Specified Activities; Taking Marine Mammals Incidental to BlueCrest Alaska Operating LLC Drilling Activities at Cosmopolitan State Unit, Alaska, 2016

AGENCY: National Marine Fisheries Service (NMFS), National Oceanic and Atmospheric Administration (NOAA), Commerce.

ACTION: Notice; withdrawal of an Incidental Harassment Authorization (IHA) application.

SUMMARY: Notice is hereby given that BlueCrest Alaska Operating, LLC (BlueCrest) has withdrawn its application for an IHA to take marine mammals, by harassment, incidental to conducting an oil and gas production drilling program in lower Cook Inlet, AK, on State of Alaska Oil and Gas Lease 384403 under the program name of Cosmopolitan State during the 2016 open water season. Accordingly, NMFS has withdrawn its related proposed IHA.

ADDRESSES: An electronic copy of the application, proposed IHA Federal Register notice, NMFS' Draft Programmatic Environmental Assessment (EA) for activities in Cook Inlet, and a list of the references used in this document may be obtained online at: http://www.nmfs.noaa.gov/pr/permits/incidental.htm. In case of problems accessing these documents, please call the contact listed below. Documents cited in this notice may also be viewed, by appointment, during regular business hours, at the aforementioned address.

FOR FURTHER INFORMATION CONTACT: Dale Youngkin, Office of Protected Resources, NMFS, (301) 427-8401.

SUPPLEMENTARY INFORMATION: On September 28, 2015 NMFS received an IHA application from BlueCrest for the taking of marine mammals incidental to an oil and gas production drilling program in lower Cook Inlet, AK, during the 2016 open water season. NMFS determined that the application was adequate and complete on April 12, 2016. The requested IHA would authorize take, by Level B harassment only, of nine marine mammal species as a result from the specified activity. NMFS published a notice of the proposed IHA in the Federal Register (81 FR 35548) on June 2, 2016. On July 21, 2016, NMFS accepted notice from BlueCrest withdrawing their IHA application for the proposed action due to their decision to forego operations in Cook Inlet at this time due to economic reasons. Therefore, NMFS has withdrawn its proposed IHA for the action.

Dated: August 19, 2016.
Donna S. Wieting,
Director, Office of Protected Resources, National Marine Fisheries Service.

[FR Doc. 2016-20251 Filed 8-23-16; 8:45 am]

BILLING CODE 3510-22-P